DEPARTMENT OF THE INTERIOR

National Park Service

[NPS-SER-EVER-19669]; [PPSESEROC3, PPMPSAS1Y.YP0000]

Final Environmental Impact Statement for the Acquisition of Florida Power & Light Company Land in the East Everglades Expansion Area

AGENCY: National Park Service, Interior.

ACTION: Notice of availability.

SUMMARY: The National Park Service (NPS) announces the availability of the Final Environmental Impact Statement (EIS) for the acquisition of Florida Power & Light Company (FPL) land in the East Everglades Expansion Area (EEEA), Everglades National Park, Florida.

DATES: The NPS will execute the Record of Decision (ROD) no sooner than 30 days following publication by the Environmental Protection Agency of its Notice of Availability of the Final EIS in the Federal Register.

ADDRESSES: Electronic copies of the Final EIS will be available online at http://parkplanning.nps/ever. A limited number of compact disks and printed copies of the Final EIS will be made available at Everglades National Park Headquarters, Everglades National Park, 40001 State Highway 9336, Homestead, Florida 33034-6733.

FOR FURTHER INFORMATION CONTACT: Brien Culhane, Everglades National Park, 40001 State Road 9336, Homestead, FL 33034-6733 or by telephone at (305) 242-7717.

SUPPLEMENTARY INFORMATION: The Final EIS addresses alternatives for NPS acquisition of existing FPL land located within the park, or of a sufficient interest in the property, to facilitate hydrologic and ecologic restoration of the park and the Everglades ecosystem. The acquisition of the existing FPL parcel is needed to support the goals of restoring the Northeast Shark River Slough and to fulfill the purposes of the Comprehensive Everglades Restoration Plan. Acquisition of land within the EEEA through an exchange of lands with FPL is legally authorized by Public Law 111-11 (March 30, 2009).

The Final EIS describes five alternatives. The Final EIS addresses the potential impacts from the acquisition of FPL land in the park, as well as the indirect impacts that could result from the subsequent construction and operation of transmission lines, which could be built either inside or outside the park as a result of the land acquisition alternative selected. The following describes each of the alternatives included in the Final EIS:

Alternative 1a, No NPS Action—No FPL Construction (environmental baseline): The NPS would not take action to acquire FPL property within the park. This alternative assumes that FPL would not construct transmission lines on its existing land in the park, in the exchange corridor, or in any area outside the park.

Alternative 1b, No NPS Action—FPL Construction in the Park: the NPS would not take action to acquire FPL property within the park, the same as alternative 1a, but this alternative assumes that FPL would construct transmission lines on its existing land in the park.

Alternative 2, NPS Acquisition of FPL Land: the NPS would acquire the FPL property by purchase or through the exercise of eminent domain authority by the United States. This alternative would result in an increase of 320 acres of NPS-owned land within the authorized boundary of the park and would allow for flowage of water on this property. This alternative assumes that FPL would likely acquire a replacement corridor east of the existing park boundary within or adjacent to the FPL and Miami-Dade Limestone Products Association (MDLPA) West Consensus Corridor to meet its transmission needs, and the transmission lines would be built outside the park. Alternative 2 is the environmentally preferable alternative.

Alternative 3 (NPS Preferred Alternative), Fee for Fee Land Exchange: the NPS would acquire fee title to the FPL property through an exchange for park property, as authorized by the exchange legislation. NPS land conveyed to FPL (the “exchange corridor”) would consist of 260 acres along 6.5 miles of the eastern boundary of the EEEA. The NPS would also convey to FPL a 90-foot-wide perpetual nonnative vegetation management easement adjacent to the entire length of the exchange corridor. The fee for fee land exchange would be subject to terms and conditions that are to be agreed upon between NPS and FPL and incorporated into a binding exchange agreement. FPL would be required to allow the United States the perpetual right, power, and privilege to flood and submerge the exchange corridor consistent with hydrologic restoration requirements. The construction scenario associated with this alternative assumes that FPL would build the transmission lines in the exchange corridor.

This alternative has been revised from the Draft EIS to the Final EIS due to updated transmission line siting requirements included in the state site certification process, which were not available in time for the Draft EIS. The final order directed FPL to avoid siting any transmission lines in the park and pursue the use of the West Consensus Corridor as the primary corridor for siting transmission lines. The FPL West Preferred Corridor (which includes the NPS exchange lands) would only be used for transmission lines if FPL cannot secure an adequate right-of-way within the FPL West Consensus Corridor (outside of the park boundary) in a timely manner and at a reasonable cost. FPL's success in acquiring interests in the West Consensus Corridor would minimize or eliminate the amount of property in the exchange corridor required for these transmission lines.

In the Final EIS, this alternative now includes a commitment that FPL shall reconvey to the NPS all acreage in the exchange corridor that is determined to be unneeded by FPL to build the transmission lines. FPL would not develop land within the exchange corridor until completing the requirements of the site certification process and determining land ownership needs. The park boundary would be adjusted after the reconveyance, so that it reflects the actual final land ownership between FPL and NPS. These commitments would be identified in a binding exchange agreement between the two parties.

Alternative 4, Easement for Fee Land Exchange: the NPS would acquire fee title to the FPL property through an exchange for an easement on NPS property. This is similar to alternative 3, except that NPS would grant FPL an easement for potential transmission line construction (not fee title) over the lands along the eastern boundary of the EEEA, in accordance with the terms and conditions developed for this easement for fee exchange. The NPS would retain ownership of the corridor, but would no longer have unencumbered use of it. The NPS would also convey a 90-foot-wide perpetual nonnative vegetation management easement to FPL adjacent to the entire length of the exchange corridor. The easement for fee land exchange would be subject to terms and conditions that are to be agreed upon between NPS and FPL and incorporated into a binding exchange agreement. Similar to alternative 3, the FPL easement corridor would be subject to a perpetual flowage easement.

Alternative 5, Perpetual Flowage Easement on FPL Property: the NPS would acquire a perpetual flowage easement on FPL's property within the EEEA through purchase, condemnation, or donation by FPL. FPL would retain ownership of its corridor in the park during the term of the easement and could seek to site transmission lines there. The flowage allowed under this easement would allow sufficient water flow over this area to support ecosystem restoration projects. The construction scenario associated with this alternative would be the same as the one for alternative 1B (FPL construction of transmission lines on its existing land in the park).

The Final EIS responds to, and incorporates, agency and public comments received on the Draft EIS. The Draft EIS was available for public review and comment for 60 days from January 17, 2014, through March 18, 2014. During the comment period, 275 pieces of correspondence were received. Two of these were petitions or letters containing 14,075 total signatures; a third form letter contained 178 signatures and 70 individual pieces of correspondence, which are included in the 275 total comments received. Alternative 2 is the environmentally preferable alternative and alternative 3 is the NPS preferred alternative.

The responsible official for this EIS is the Regional Director, NPS Southeast Region, 100 Alabama Street SW., 1924 Building, Atlanta, Georgia 30303.

Dated: November 18, 2015.
Shawn Benge,
Deputy Regional Director, Southeast Region.

[FR Doc. 2015-30580 Filed 12-2-15; 8:45 am]

BILLING CODE 4310-JD-P